ENVIRONMENTAL PROTECTION AGENCY

40 CFR Part 141

[EPA-HQ-OW-2021-0255; FRL-10024-80-OW]

Lead and Copper Rule Revisions (LCRR) Virtual Engagements

AGENCY: Environmental Protection Agency (EPA).

ACTION: Extension of comment period.

SUMMARY: The U.S. Environmental Protection Agency (EPA) is extending the comment period for the Lead and Copper Rule Revisions (LCRR) Virtual Engagements. In order to provide the public with opportunities to submit additional comments to the LCRR Virtual Engagements docket after participating in or viewing the community, tribal, and stakeholder roundtables, EPA is extending the comment period an additional 30 days, from June 30, 2021 to July 30, 2021.

DATES: The comment period announced in the document published on April 5, 2021 (86 FR 17571), is extended. Comments must be received by EPA on or before July 30, 2021.

ADDRESSES: Submit your comments, identified by Docket ID No. EPA-HQ-OW-2021-0255 via the Federal eRulemaking Portal: https://www.regulations.gov/ (our preferred method). Follow the online instructions for submitting comments.

Instructions: All submissions received must include the Docket ID No. EPA-HQ-OW-2021-0255 for this rulemaking. Comments received may be posted without change to https://www.regulations.gov/, including any personal information provided. For detailed instructions on sending comments and additional information on the rulemaking process, see the “Public Participation” heading of the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Erik Helm at the U.S. Environmental Protection Agency, Office of Ground Water and Drinking Water, Standards and Risk Management Division (Mail Code 4607M), 1200 Pennsylvania Avenue NW, Washington, DC 20460; telephone: 202-566-1049; or email: Helm.Erik@epa.gov.

SUPPLEMENTARY INFORMATION: On April 5, 2021, EPA published a document in the Federal Register (86 FR 17571), announcing that the agency will host virtual engagements beginning in April 2021. The goal of the events is to obtain further public input on EPA's LCRR, particularly from individuals and communities that are most at-risk of exposure to lead in drinking water. For more information on each event, visit EPA's drinking water website: https://www.epa.gov/safewater. In addition to these events, EPA opened a docket (No. EPA-HQ-OW-2021-0255) to collect input from the public on the LCRR.

EPA hosted public listening sessions on April 28, 2021 and May 5, 2021, and is now working to schedule the community, tribal, and stakeholder roundtables from the beginning of June to mid-July. EPA intends to make each roundtable available for viewing to those who are not participating but are interested in listening. EPA will be posting meeting materials and additional event details on https://www.epa.gov/safewater as they become available. In order to provide the public with opportunities to submit additional comments to the LCRR Virtual Engagements docket once these virtual meetings have been held, EPA is extending the comment submission date to July 30, 2021.

A. Opportunities To View Additional Information and Public Input on the LCRR

EPA is hosting virtual community, tribal, and stakeholder roundtables through mid-July. Community roundtables offer an opportunity through which local organizations can participate in a discussion of LCRR related topics and provide their unique perspective to EPA. These roundtables will focus on communities that are disproportionately impacted by the challenges of lead in drinking water. Participants in these community roundtables will be representative of the interests in these individual communities including, but not limited to, local government entities, public water utilities, community-organized groups, environmental groups, and elected officials.

EPA will also host a virtual tribal roundtable regarding the LCRR in mid-July. This will be a facilitated discussion of topics related to the LCRR among participants who represent tribes and tribal communities including, but not limited to, tribal governments, public water utilities serving Indian country, tribal consortia, and tribally authorized organizations. EPA will soon invite these groups to self-nominate individuals to participate in this discussion. Information and updates on the tribal roundtable will be posted on https://www.epa.gov/safewater as it becomes available.

In addition, EPA intends to host a stakeholder roundtable where representatives of national organizations (e.g., environmental, industry, consumer, intergovernmental) can participate in a discussion of LCRR related topics and provide their perspective to the agency.

Lastly, EPA will meet with state coregulators to consider their input provided up to that point to understand the states' perspectives on the LCRR.

For specific information on the scheduled times and participants in these roundtable events, visit EPA's drinking water website: https://www.epa.gov/safewater.

B. Public Participation

Submission of Written Comments to the Docket

Submit your comments, identified by Docket ID No. EPA-HQ-OW-2021-0255, at https://www.regulations.gov. Once submitted, comments cannot be edited or removed from the docket. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For the full EPA public comment policy, information about CBI or multimedia submissions, and general guidance on making effective comments, please visit https://www.epa.gov/dockets/commenting-epa-dockets.

Radhika Fox,
Principal Deputy Assistant Administrator, Office of Water.

[FR Doc. 2021-13309 Filed 6-22-21; 8:45 am]

BILLING CODE 6560-50-P